DEPARTMENT OF HEALTH AND HUMAN SERVICES

National Institutes of Health

Center for Scientific Review; Amended Notice of Meeting

Notice is hereby given of a change in the meeting of the Center for Scientific Review Special Emphasis Panel, January 3, 2011, 11 a.m. to January 3, 2011, 4 p.m., National Institutes of Health, 6701 Rockledge Drive, Bethesda, MD 20892 which was published in the Federal Register on December 10, 2010, 75 FR 76994-76995.

The meeting title has been changed to “Member Conflict: Kidney, Nutrition, Obesity and Diabetes and Cardiovascular and Sleep Epidemiology”. The meeting is closed to the public.

Dated: December 17, 2010.
Jennifer S. Spaeth,
Director, Office of Federal Advisory Committee Policy.

[FR Doc. 2010-32257 Filed 12-22-10; 8:45 am]

BILLING CODE 4140-01-P